DEPARTMENT OF THE INTERIOR

Bureau of Land Management

[LLNVB00000.L51100000.LVEMF1503550.241A.15X MO 4500102605]

Notice of Availability of the Draft Environmental Impact Statement for the Proposed Gold Bar Mine Project, Eureka County, NV

AGENCY: Bureau of Land Management, Interior.

ACTION: Notice.

SUMMARY: In compliance with the National Environmental Policy Act of 1969, as amended (NEPA), and the Federal Land Policy and Management Act of 1976, as amended, the Bureau of Land Management (BLM) Mount Lewis Field Office, Battle Mountain, Nevada, has prepared a Draft Environmental Impact Statement (EIS) for the Gold Bar Mine Project and by this notice is announcing the beginning of the public comment period to solicit public comments on the Draft EIS.

DATES: This notice initiates the public comment period for the Gold Bar Mine Project Draft EIS. Comments may be submitted in writing until April 17, 2017. The date(s) and location(s) of any comment meetings will be announced at least 15 days in advance through local media, newspapers and the BLM Web site at: http://bit.ly/2gyfZms. To ensure comments will be considered, all comments must be received prior to the close of the 45-day public comment period. We will provide additional opportunities for public participation upon publication of the Final EIS.

ADDRESSES: You may submit comments related to the Gold Bar Mine Project by any of the following methods:

• Web site: http://bit.ly/2gyfZms

• Email: blm_nv_bmdo_mlfo_gold_bar_project_eis@blm.gov

• Fax: 775-635-4034

• Mail: 50 Bastian Road, Battle Mountain, Nevada 89820

Documents pertinent to this proposal may be examined at the Mount Lewis Field Office.

FOR FURTHER INFORMATION CONTACT: Christine Gabriel—Project Manager, telephone 775-635-4000; address 50 Bastian Road, Battle Mountain, Nevada 89820; email blm_nv_bmdo_mlfo_gold_bar_project_eis@blm.gov. Contact Christine Gabriel to have your name added to our mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: McEwen Mining Inc. (McEwen) proposes to develop a gold mine in the southwest portion of the Roberts Mountains approximately 30 miles northwest of Eureka, Nevada. The Plan boundary encompasses 5,362 acres of public land and 199 acres of private land located in Eureka County, Nevada. The proposed Project consists of a mining Plan of Operations (Plan) (NVN-091037) and involves the following activities: Four open pits; waste rock dump areas; crushing, screening, and agglomeration facilities; heap leach pads, associated process solution pond, and an event pond; an adsorption, desorption, and recovery plant, including barren and pregnant solution tanks; ancillary and other facilities, including explosive storage area, ammonium nitrate prill silos, liquid natural gas cryostorage, or compressed natural gas generators and switch station, truck shop and wash bay, ready line, landfill, laydown areas, water and power infrastructure, buildings, yards, parking, storage, growth media stockpiles, production water wells (GBPW-210 and GBPW-211) and associated water supply pipeline, groundwater monitoring wells (GBMW-01, GBMW-03, and GBMW-04), communication facilities, potable water and fire water facilities, septic systems, and fencing; and mine access roads (Three Bars Road, Atlas Haul Road, North Roberts Creek Road, Bypass Road [NVN-91566], and Roberts Creek Road). Total proposed Project disturbance would be approximately 1,127 acres of surface disturbance, which includes both proposed new disturbance and existing disturbance that would be incorporated into the Project, with approximately 944 acres on public land administered by the BLM Mount Lewis Field Office and 183 acres on private land. The actions involved in the decision to be made by the U.S. Department of the Interior's BLM include authorization of the Gold Bar Plan of Operations. The Gold Bar Mine Project is in conformance with the 1986 Shoshone-Eureka Resource Area Resource Management Plan and Record of Decision.

The proposed pit depths would not intercept groundwater. No pit dewatering would be necessary and no pit lakes are anticipated to form after mining operations end.

The purpose of this comment period is for the public to comment on the Draft EIS. The Draft EIS, through scoping, has identified and analyzed impacts to the following resources areas: Water resources; air quality; vegetation resources (including noxious weed and special status species); wildlife (including migratory birds and special status species); grazing management; land use and access; aesthetics (noise and visual); cultural resources; paleontological resources; geological resources (including minerals and soils); recreation; social and economic values; hazardous materials; Native American cultural concerns; and wild horses. The project area does not have any lands with wilderness characteristics. The Pony Express National Historic Trail (NHT) crosses existing Three Bars and North Roberts Creek Roads; however, public and recreational access to the NHT would not be affected by mining activities.

The Draft EIS describes and analyzes the proposed Project's direct, indirect, and cumulative impacts on all affected resources. In addition to the proposed Project, four alternatives were analyzed including the 25kV Overhead Distribution Line Alternative, the Three Bars Road/Atlas Haul Road as Only Access Alternative, the Mount Hope and North Roberts Creek Road for Light Vehicle Traffic Alternative, and the No Action Alternative. Development of alternatives focused on reducing impacts to Greater Sage-Grouse habitat.

On September 11, 2015, a Notice of Intent was published in the Federal Register inviting scoping comments on the Proposed Action (80 FR 54800). A public scoping meeting was held in Eureka on October 6, 2015. A total of 12 scoping comment letters were received during the scoping period. Concerns raised included impacts to water resources, air quality, wild horses, wildlife, and recreation.

The BLM has utilized and coordinated the NEPA scoping and comment process to help fulfill the public involvement process under the National Historic Preservation Act (NHPA) (54 U.S.C. 306108) as provided in 36 CFR 800.2(d)(3)—and the BLM continues to do so. The information about historic and cultural resources within the area potentially affected by the proposed Project has assisted the BLM in identifying and evaluating impacts to such resources in the context of both NEPA and Title 54 of the NHPA.

The BLM has consulted and continues to consult with Indian tribes on a government-to-government basis in accordance with Executive Order 13175 and other policies. Tribal concerns, including potential impacts to areas of critical cultural and spiritual significance and potential impacts to cultural resources, have been analyzed in the Draft EIS. Federal, State, and local agencies, along with tribes and other stakeholders that may be interested in or affected by the proposed Project that the BLM is evaluating, are invited to participate in the comment process.

Before including your address, phone number, email address, or other personal identifying information in your comment, you should be aware that your entire comment—including your personal identifying information—may be made publicly available at any time. While you can ask us in your comment to withhold your personal identifying information from public review, we cannot guarantee that we will be able to do so.

Authority: 40 CFR 1503.1 and 1506.6.

Jon D. Sherve,
Field Manager, Mount Lewis Field Office.

[FR Doc. 2017-03966 Filed 3-2-17; 8:45 am]

BILLING CODE P